DEPARTMENT OF ENERGY

[FE Docket Nos. 03-82-NG, et al.]

Office of Fossil Energy; Puget Sound Energy, Inc., et al.; Orders Granting and Vacating Authority To Import and Export Natural Gas

AGENCY: Office of Fossil Energy, DOE.

ACTION: Notice of orders.

SUMMARY: The Office of Fossil Energy (FE) of the Department of Energy gives notice that during December 2003, it issued Orders granting and vacating authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC on January 30, 2004.
Sally Kornfeld,
Manager, Natural Gas Regulation, Office of Natural Gas & Petroleum Import & Export Activities, Office of Fossil Energy.

Appendix.—Orders Granting and Vacating Import/Export Authorizations
[DOE/FE Authority]
Order No. | Date issued | Importer/exporter FE docket No. | Import volume | Export volume | Comments
1924 | 12-4-03 | Puget Sound Energy, Inc., 03-82-NG | ¹ 75 Bcf |  | Import and export a combined total of natural gas from and to Canada, beginning on December 6, 2003, and extending through December 5, 2005.
1925 | 12-4-03 | Peoples Energy Wholesale Marketing LLC, 03-80-NG | 10 Bcf | 10 Bcf | Import and export natural gas from and to Canada, beginning on December 6, 2003, and extending through December 5, 2005.
1927 | 12-8-03 | Direct Energy Marketing Inc., 03-81-NG | ¹ 500 Bcf |  | Import and export a combined total of natural gas from and to Canada, beginning on December 8, 2003, and extending through December 7, 2005.
1928 | 12-8-03 | Direct Energy Marketing Limited 03-83-NG | ¹ 500 Bcf |  | Import and export a combined total of natural gas from and to Canada, beginning on December 1, 2003, and extending through November 30, 2005.
1928 | 12-8-03 | Direct Energy Marketing Limited 03-83-NG |  |  | Vacate blanket import and export authority granted in Docket No. Order No. 1742.
1929 | 12-11-03 | Enbridge Gas Distribution Inc. 03-84-NG | ¹ 300 Bcf |  | Import and export a combined total of natural gas from and to Canada, beginning on January 1, 2004, and extending through December 31, 2005.
1930 | 12-17-03 | Williams Power Company, Inc. (Formerly, Williams Energy Marketing & Trading Company) 03-85-NG | 200 Bcf |  | Import natural gas from Canada, beginning on December 17, 2003, and extending through December 16, 2005.
1931 | 12-23-03 | Suncor Energy Inc. and Suncor Energy Marketing Inc. 03-86-NG | 128 Bcf |  | Import natural gas from Canada, beginning on January 1, 2004, and extending through December 31, 2005.

[FR Doc. 04-2969 Filed 2-10-04; 8:45 am]

BILLING CODE 6450-01-P